AGENCY FOR INTERNATIONAL DEVELOPMENT

Agency Information Collection Activities; Submission to the Office of Management and Budget (OMB) for Review and Approval; Employment Records Collection From Implementing Partners of Contracts in Afghanistan

AGENCY: United States Agency for International Development (USAID).

ACTION: Notice of OMB approval.

SUMMARY: In accordance with the emergency review procedures of the Paperwork Reduction Act of 1995 (PRA), USAID is requesting emergency approval from the Office of Management and Budget (OMB) for a new data collection survey on employees of the Implementing Partners of USAID contracts in Afghanistan for the purpose of facilitating the Special Immigrant Visa (SIV) Chief Of Mission (COM) approval process overseen by the Department of State.

DATES: USAID plans to collect this information starting from October, 2024.

FOR FURTHER INFORMATION CONTACT: Sulieman Hedayat, Afghanistan Partner Relocation Task Force's SIV inbox: afghansiv@usaid.gov and 202-712-1914

SUPPLEMENTARY INFORMATION: Pursuant to 5 CFR 1320.13, the Agency submitted a request for emergency approval to collect new information on the employment records of full-time Afghan employees from USAID contractors in Afghanistan.

Description of Proposed Use of Information: The information will include employee details such as dates of employment and contract number, which will be used to verify employment as part of the COM approval step of the SIV application process. This information will be collected via email through encrypted Microsoft Excel spreadsheets.

Estimated Time Burden: The total amount of time estimated for this data collection is less than 1,000 hours (considered at 3 hours per partner for an estimated 300 contractors).

Kevin Brownawell,
Executive Director, Afghan Partner Relocation Task Force, USAID.

[FR Doc. 2024-22442 Filed 9-30-24; 8:45 am]

BILLING CODE 6116-01-P